DEPARTMENT OF JUSTICE

Antitrust Division

Notice Pursuant to the National Cooperative Research and Production Act of 1993—Cooperative Research Group on Hedge IV

Notice is hereby given that, on February 14, 2017, pursuant to Section 6(a) of the National Cooperative Research and Production Act of 1993, 15 U.S.C. 4301 et seq. (“the Act”), Southwest Research Institute—Cooperative Research Group on HEDGE IV (“HEDGE IV”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: FCA US LLC, Auburn Hills, MI; IHI Corporation, Yokohama, JAPAN; Borgwarner, Inc., Auburn Hills, MI; Eaton Corporation, Southfield, MI; Ford Motor Company, Dearborn, MI; GM Global Technology Operations, LLC, Detroit, MI; Hanon Systems USA, LLC, Van Buren Twp., MI; Peugeot Citroen Automobiles (PCA), Velizy-Villacoublay Cedex, FRANCE; Tenneco Automotive Operating Company, Inc., Grass Lake, MI; and Cummins, Inc., Columbus, IN. The general area of HEDGE IV's planned activity is to develop the most cost effective solutions for future gasoline engine applications. The emissions goals include the most stringent regulations in each of the three developed markets, Asia, Europe, and North America. HEDGE IV will target the LEV III emission standards, consider RDE requirements and monitor PM/PN emissions on a regular basis. The efficiency goals include both practical thermal efficiency and performance targets, in terms of BSFC goals and power densities on specific platforms, as well as overall thermal efficiency goals to achieve a “best in class” efficiency level.

Patricia A. Brink,
Director of Civil Enforcement, Antitrust Division.

[FR Doc. 2017-05924 Filed 3-24-17; 8:45 am]

BILLING CODE P